DEPARTMENT OF ENERGY

Office of Energy Efficiency and Renewable Energy

Notice of Re-Opening Request for Information (RFI): Stakeholder Input on Out-Year Marine and Hydrokinetic Program Strategy

AGENCY: Water Power Technologies Office, Office of Energy Efficiency and Renewable Energy, Department of Energy.

ACTION: Notice of reopening of public comment period.

SUMMARY: On April 6, 2016, the Water Power Technologies Office within the U.S. Department of Energy (DOE), published a notice in the Federal Register announcing a stakeholder meeting to receive comments on its request for information (RFI) to receive input for DOE's Outyear Marine and Hydrokinetic Program Strategy. Based on requests from several stakeholder to extend the RFI comment period, DOE has decided to reopen the RFI comment period.

DATES: DOE will accept comments no later than Friday, September 30, 2016 at 11:59 p.m. ET.

ADDRESSES: Interested persons can submit comments to the email address: MHKRFI1570@ee.doe.gov. Please include with the subject line “Comments for RFI1570.”

FOR FURTHER INFORMATION CONTACT: Maggie Yancey, Office of Energy Efficiency and Renewable Energy, U.S. Department of Energy, 1000 Independence Ave SW., Washington, DC 20585. Telephone: (202) 586-4536. For email, please include in the subject line “Further Information,” and in the body of the email: your name, organization, contact information, and your specific question or inquiry. MHKRFI1570@ee.doe.gov.

SUPPLEMENTARY INFORMATION: On April 6, 2016, the Water Power Technologies Office within the DOE published a notice in the Federal Register, (81 FR 19963), announcing a stakeholder meeting to receive comments on its request for information (RFI) to receive input for DOE's Outyear Marine and Hydrokinetic Program Strategy. The RFI, numbered RFI 1570, is available on DOE's EERE Exchange Web site at: https://eere-exchange.energy.gov/and/or at this link: http://bit.ly/2bTiyie. The RFI has not been changed or modified to include new information that DOE is requesting feedback on; DOE is re-opening RFI 1570 to allow an additional opportunity for comments to be submitted.

Issued on August 30, 2016 in Washington, DC.
James M. Ahlgrimm,
Acting Director, Water Power Technologies Office, Office of Energy Efficiency and Renewable Energy.

[FR Doc. 2016-21307 Filed 9-2-16; 8:45 am]

BILLING CODE 6450-01-P